DEPARTMENT OF LABOR

Employment and Training Administration

[TA-W-74,116]

Washington Department of Transportation, Olympic Division, Aberdeen Maintenance Office, Chehalis Drawbridge Tenders, Aberdeen, WA; Notice of Negative Determination Regarding Application for Reconsideration

By application dated July 9, 2010, the Washington State Labor Council, AFL-CIO, requested administrative reconsideration of the negative determination regarding workers' eligibility to apply for Trade Adjustment Assistance (TAA) applicable to workers and former workers of the subject public agency. The determination was issued on June 17, 2010, and the Notice of Determination was published in the Federal Register on July 1, 2010 (75 FR 38142).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the TAA petition filed on behalf of workers at Washington Department of Transportation, Olympic Division, Aberdeen Maintenance Office, Chehalis Drawbridge Tenders, Aberdeen, Washington, was based on the finding that the public agency (the Chehalis Drawbridge) that is the subject of this case did not acquire services like or directly competitive to drawbridge operation and maintenance services from a foreign country.

In the request for reconsideration the petitioning union official stated that the workers of the subject firm should be eligible for TAA because the initial decision was based on a misinterpretation of the new language for certification of public entities. The petitioner alleged that the bridge tenders lost their jobs due to the closure of several upstream facilities (notably the Weyerhaeuser complex, for which there are several current certifications), and those plant closures lessened river traffic to the point that the bridge operated by the workers laid off by the subject agency could go unattended. The petitioner refers to the bridge and its tenders as a secondary supplier which he believes should qualify for benefits because of their relationship to the certified Weyerhaeuser facilities upriver from the bridge.

The group eligibility requirements for workers of a Public Agency can only be satisfied if the criteria as depicted in the initial decision are met.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 8th day of October, 2010.
Elliott S. Kushner,
Certifying Officer, Office of Trade Adjustment Assistance.

[FR Doc. 2010-27762 Filed 11-2-10; 8:45 am]

BILLING CODE 4510-FN-P